DEPARTMENT OF THE INTERIOR

National Park Service

[NPS-WASO-NRNHL-DTS#-40464; PPWOCRADI0, PCU00RP14.R50000]

National Register of Historic Places; Notification of Pending Nominations and Related Actions

AGENCY: National Park Service, Interior.

ACTION: Notice.

SUMMARY: The National Park Service is soliciting electronic comments on the significance of properties nominated before June 14, 2025, for listing or related actions in the National Register of Historic Places.

DATES: Comments should be submitted electronically by July 14, 2025.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 2013, Washington, DC 20240.

FOR FURTHER INFORMATION CONTACT: Sherry A. Frear, Chief, National Register of Historic Places/National Historic Landmarks Program, 1849 C Street NW, MS 2013, Washington, DC 20240, sherry_frear@nps.gov, 202-913-3763.

SUPPLEMENTARY INFORMATION: The properties listed in this notice are being considered for listing or related actions in the National Register of Historic Places. Nominations for their consideration were received by the National Park Service before June 14, 2025. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers

KEY: State, County, Property Name, Multiple Name (if applicable), Address/Boundary, City, Vicinity, Reference Number.

DELAWARE

New Castle County

Mitchell-Biden House, 228 North Star Road, Newark vicinity, SG100012038

LOUISIANA

Jefferson Parish

The Oleander Hotel, (Louisiana Coastal Vernacular: Grand Isle 1780-1968 MPS), 166-176 Ludwig Lane, Grand Isle, MP100012046

OKLAHOMA

Muskogee County

Old Union Agency Cemetery, Address Restricted, Muskogee vicinity, SG100012028

Wagoner County

Thomas Smith Cemetery, East 41st Street South, Broken Arrow vicinity, SG100012029

PENNSYLVANIA

Allegheny County

Charles M. Schwab House, 541 Jones Ave., North Braddock, SG100012042

Carbon County

Mauch Chunk Cemetery, 201 South Avenue, Jim Thorpe, SG100012043

Chester County

Hamorton Historic District (Boundary Increase), Jct. of US 1 and SR 52, Kennett Square vicinity, BC100012044

UTAH

Washington County

Springdale Town Jail, 60 Winderland Drive, Springdale, SG100012039

WASHINGTON

Douglas County

45DO1422, (Spiritually Significant Rock Features of the Southern Columbia Plateau and Okanogan Highlands MPS), Address Restricted, Washington, MP100012033

45DO1423, (Spiritually Significant Rock Features of the Southern Columbia Plateau and Okanogan Highlands MPS), Address Restricted, Palisades, MP100012034

45DO1424, (Spiritually Significant Rock Features of the Southern Columbia Plateau and Okanogan Highlands MPS), Address Restricted, Palisades vicinity, MP100012035

45DO1425, (Spiritually Significant Rock Features of the Southern Columbia Plateau and Okanogan Highlands MPS), Address Restricted, Palisades vicinity, MP100012036

45DO1426, (Spiritually Significant Rock Features of the Southern Columbia Plateau and Okanogan Highlands MPS), Address Restricted, Palisades vicinity, MP100012037

WISCONSIN

Milwaukee County

Carleton District #3 School, 4116 West Silver Spring Drive, Milwaukee, SG100012027

WYOMING

Teton County

Wilson Commercial Historic District, Main Street & W Highway 22, Wilson, SG100012032

Additional documentation has been received for the following resource(s):

PENNSYLVANIA

Chester County

Hamorton Historic District (Additional Documentation), Jct. of US 1 and SR 52, Kennett Square vicinity, AD90000704

WYOMING

Teton County

Wort-Stilson-Pucci Cabin (Additional Documentation), Pt Tract 38, Section 18, Township 42, Range 113, Kelly vicinity, AD90000889

Authority: Section 60.13 of 36 CFR part 60

Sherry A. Frear,
Chief, National Register of Historic Places/National Historic Landmarks Program.

[FR Doc. 2025-11976 Filed 6-26-25; 8:45 am]

BILLING CODE 4312-52-P